DEPARTMENT OF ENERGY

Federal Energy Regulatory Commission

[Docket No. RM16-17-000]

Data Collection for Analytics and Surveillance and Market-Based Rate Purposes

AGENCY: Federal Energy Regulatory Commission.

ACTION: Proposed revision of collected information; request for comments.

SUMMARY: The Federal Energy Regulatory Commission (Commission) proposes to collect additional data from certain market-based rate (MBR) sellers with ultimate upstream affiliates that have been granted blanket authorization. The Commission proposes revisions to the data dictionary that accompanies the relational database established in Order No. 860 to include new requirements for those MBR sellers to report connections to an entity whose securities were acquired pursuant to the blanket authorization. In addition, the Commission plans to request approval from the Office of Management and Budget (OMB) for this collection of information.

DATES: Comments are due June 7, 2021.

ADDRESSES: Comments, identified by docket number, may be filed in the following ways. Electronic filing through http://www.ferc.gov, is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (Including Courier) Delivery: Deliver to: Federal Energy Regulatory Commission, 12225 Wilkins Avenue, Rockville, MD 20852.

The Comment Procedures Section of this document contains more detailed filing procedures.

FOR FURTHER INFORMATION CONTACT:

Ryan Stertz (Technical Information), Office of Energy Market Regulation, Federal Energy Regulation Commission, 888 First Street NE, Washington, DC 20426, (202) 502-6473, Ryan.Stertz@ferc.gov.

Regine Baus (Legal Information), Office of the General Counsel, Federal Energy Regulation Commission, 888 First Street NE, Washington, DC 20426, (202) 502-8757, Regine.Baus@ferc.gov.

SUPPLEMENTARY INFORMATION: 1. In this Notice, the Commission requests comments on a proposal to collect additional data from certain market-based rate (MBR) sellers (Sellers) ¹ through revisions to the data dictionary and XML schema that accompany the relational database established in Order No. 860 (MBR Data Dictionary).² Specifically, the Commission proposes revisions to the MBR Data Dictionary to require that Sellers whose ultimate upstream affiliate(s) ³ own their voting securities pursuant to a section 203(a)(2) blanket authorization, provide in the relational database the docket number of the section 203(a)(2) blanket authorization, and the utility ID types and the utility IDs of the upstream affiliates whose securities were acquired pursuant to that section 203(a)(2) blanket authorization.⁴

¹ A Seller is defined as any person that has authorization to or seeks authorization to engage in sales for resale of electric energy, capacity or ancillary services at market-based rates under section 205 of the Federal Power Act (FPA). 18 CFR 35.36(a)(1); 16 U.S.C. 824d.

² Data Collection for Analytics & Surveillance & Mkt.-Based Rate Purposes, Order No. 860, 168 FERC ¶ 61,039 (2019), order on reh'g and clarification, Order No. 860-A, 170 FERC ¶ 61,129 (2020).

³ “Ultimate upstream affiliate” is defined as the furthest upstream affiliate(s) in the ownership chain—i.e., each of the upstream of affiliate(s) of a Seller, who itself does not have 10% or more of its outstanding securities owned, held or controlled, with power to vote, by any person (including an individual or company). Order No. 860, 168 FERC ¶ 61,039 at P 5 n.10; see also 18 CFR 35.36(a)(10). “Upstream affiliate” means any entity described in § 35.36(a)(9)(i). 18 CFR 35.36(a)(10).

⁴ For purposes of this order, “utilities” are defined as transmitting utilities, electric utility companies, or holding company systems containing such entities.

I. Background

2. On July 18, 2019, the Commission issued Order No. 860, which revised certain aspects of the substance and format of information Sellers submit to the Commission for market-based rate purposes. Among other things, the Commission adopted the approach to collect market-based rate information in a relational database.⁵ The Commission also specified that any significant changes to the MBR Data Dictionary will be proposed in a Commission order or rulemaking, which would provide an opportunity for comment.⁶

⁵ Order No. 860, 168 FERC ¶ 61,039 at P 4.

⁶ Id. P 220.

3. In support, the Commission explained that the relational database construct provides for a more modern and flexible format for the reporting and retrieval of information. The Commission noted that Sellers will be linked to their market-based rate affiliates through common ultimate upstream affiliate(s) and that, through this linkage, the relational database will allow for the automatic generation of a complete asset appendix based solely on the information submitted into the relational database.⁷

⁷ Order No. 860, 168 FERC ¶ 61,039 at PP 5-6. “Once a Seller identifies its own assets, the assets of its affiliates without market-based rate authority, and its ultimate upstream affiliate(s), the relational database will contain sufficient information to allow the Commission to identify all of that Seller's affiliates (i.e., those with a common ultimate upstream affiliate) to create a complete asset appendix for the Seller, which includes all of its affiliates' assets.” Id. P 40.

4. The Commission required that, as part of its market-based rate application or baseline submission, a Seller must identify through the relational database its ultimate upstream affiliate(s). Because this is a characteristic the Commission will rely upon in granting market-based rate authority, the Commission specified that Sellers must also inform the Commission when they have a new ultimate upstream affiliate as part of their change in status reporting obligations. The Commission also required that any new ultimate upstream affiliate information must also be submitted into the relational database and any changes updated on a monthly basis.⁸

⁸ Id. P 121.

II. Discussion

A. Petition for Declaratory Order

5. In Docket No. EL21-14-000, NextEra Energy, Inc., American Electric Power Company, Inc., Evergy, Inc., Exelon Corporation, and Xcel Energy Services Inc. on behalf of Xcel Energy Inc. (Petitioners) filed a petition for declaratory order (Petition) regarding, among other things, affiliation under FPA section 205 of an institutional investor that has been granted blanket authorization under FPA section 203(a)(2). Specifically, Petitioners request that the Commission find that no affiliation arises under section 205 when institutional investors acquire up to 20% of the voting securities of utilities pursuant to a section 203(a)(2) blanket authorization order.

6. While we are denying the Petition in a concurrently issued order, we are providing guidance that will address, in part, the concerns Petitioners raise.⁹ As discussed more fully in the order denying the Petition, we disagree with Petitioners that no affiliation arises under section 205 when institutional investors acquire up to 20% of the voting securities of utilities pursuant to a section 203(a)(2) blanket authorization order.¹⁰ However, we agree with Petitioners that, as a result of the conditions in a section 203(a)(2) blanket authorization order, the institutional investors subject to that order lack the ability to control the utilities whose voting securities they acquire. Accordingly, because those conditions prevent institutional investors from exercising control over those utilities, utilities commonly owned by an institutional investor are not affiliates of each other under 18 CFR 35.36(a)(9)(iv),¹¹ so long as their institutional investor owners remain under the conditions imposed in its section 203(a)(2) blanket authorization order. As a result, the Commission's various affiliate restrictions would not apply between utilities, including market-based rate sellers, whose securities are owned by a common institutional investor pursuant to a section 203(a)(2) blanket authorization.¹²

⁹ NextEra Energy, Inc., 174 FERC ¶ 61,213 (2021) (NextEra).

¹⁰ Id.

¹¹ Under § 35.36(a)(9)(iv), an affiliate of a specified company can also mean “[a]ny person that is under common control with the specified company.” 18 CFR 35.36(a)(9)(iv).

¹² This does not mean that such utilities could never be considered affiliates based on other factors. For example, if public utilities have a common upstream affiliate whose ownership of those public utilities is not subject to a section 203(a)(2) blanket authorization, these public utilities are affiliates of each other under 18 CFR 35.36(a)(9)(iv). See NextEra, 174 FERC ¶ 61,213 at P 52 n.80.

7. However, the relational database, as contemplated under Order Nos. 860 and 860-A, does not provide for a method to distinguish between ultimate upstream affiliates and those ultimate upstream affiliates that acquired the securities of the Seller through a section 203(a)(2) blanket authorization. Accordingly, we propose changes to the MBR Data Dictionary so that the relational database can accurately reflect the affiliations, or lack of affiliation, among Sellers for which their ultimate upstream affiliate is an institutional investor who acquired their securities pursuant to a section 203(a)(2) blanket authorization.

B. Changes to the MBR Data Dictionary

8. We propose to collect certain data in the relational database for purposes of generating accurate asset appendices when the voting securities of a Seller or a Seller's upstream affiliate have been acquired, 10% or more, pursuant to a section 203(a)(2) blanket authorization. This new requirement would only be required for Sellers with upstream affiliates whose securities have been acquired, 10% or more, pursuant to a section 203(a)(2) blanket authorization; thus, there will be no burden on other Sellers.

9. Specifically, this Notice proposes to update the MBR Data Dictionary and add three new attributes to the Entities to Entities table. These new attributes are: The blanket authorization docket number, and the utility ID types and the utility IDs of the utilities whose securities were purchased under the corresponding blanket authorization docket number. The appropriate Sellers would be required to submit the docket number of the proceeding in which the Commission granted the section 203(a)(2) blanket authorization and the upstream affiliate whose securities were acquired pursuant to the section 203(a)(2) blanket authorization.

10. We believe that these new attributes are necessary to prevent the connection of unaffiliated entities when auto-generating asset appendices, consistent with our findings in NextEra. The draft of the Entities to Entities table in MBR Data Dictionary which describes these fields in detail is attached in Appendix A. We seek comment on these changes.

11. We anticipate that the MBR Data Dictionary with appropriate validations will be posted on the Commission website upon issuance of a final order in this proceeding.

C. Impact on the Asset Appendix

12. As discussed in Order No. 860, the relational database will auto-generate a Seller's asset appendix based on the information that is submitted into the relational database.¹³ Currently, the ultimate upstream affiliate information is used to connect affiliates through this common affiliate in all instances. However, as currently constructed, the relational database would erroneously link companies through common ultimate upstream affiliates when the securities of a Seller's upstream affiliate were acquired pursuant to a section 203(a)(2) blanket authorization. Consistent with our findings in NextEra, we propose that, under these circumstances, the relational database instead link MBR affiliates through the upstream affiliate whose securities were acquired pursuant to the section 203(a)(2) blanket authorization, with the aim of providing the information needed, while limiting the burden.

¹³ Order No. 860, 168 FERC ¶ 61,039 at P 16 n.26.

III. Information Collection Statement

13. The Paperwork Reduction Act (PRA) ¹⁴ requires each federal agency to seek and obtain Office of Management and Budget (OMB) approval before undertaking a collection of information directed to ten or more persons or contained in a rule of general applicability. OMB regulations ¹⁵ require approval of certain information collection requirements imposed by agency rules. Upon approval of a collection of information, OMB will assign an OMB control number and an expiration date. Respondents subject to the filing requirements of this proposal will not be penalized for failing to respond to this collection of information unless the collection of information displays a valid OMB control number.

¹⁴ 44 U.S.C. 3501-3520.

¹⁵ 5 CFR 1320.

14. We plan to request OMB approval for a revision of FERC-919A (Refinements to Policies and Procedures for Market Based Rates for Wholesale Sales of Electric Energy, Capacity and Ancillary Services by Public Utilities), OMB Control Number 1902-0317. We solicit comments on the Commission's need for this information, whether the information will have practical utility, the accuracy of the provided burden estimates, ways to enhance the quality, utility, and clarity of the information to be collected, and any suggested methods for minimizing respondents' burden, including the use of automated information techniques.

15. The proposal in this Notice will affect Sellers that have ultimate upstream affiliates that hold their voting securities pursuant to section 203(a)(2) blanket authorizations. Sellers continue to be required to report institutional investors who own 10% percent or more of their voting shares pursuant to section 203(a)(2) blanket authorizations as their reportable ultimate upstream affiliate in the relational database. However, the proposal herein would also require these Sellers to identify their upstream affiliate(s) whose securities have been acquired, 10% or more, pursuant to a section 203(a)(2) blanket authorization. This requirement includes submitting into the relational database the docket number of the order granting the institutional investor section 203(a)(2) blanket authorization, the identifier of the upstream affiliate(s) whose securities were acquired pursuant to the section 203(a)(2) blanket authorization, and the type of identifier reported. The proposal would not impose any additional reporting requirements for Sellers whose ultimate upstream affiliates do not hold their voting securities pursuant to section 203(a)(2) blanket authorizations.

16. There are approximately 2,647 Sellers that will submit information into the relational database. Six institutional investors currently have section 203(a)(2) blanket authorizations, which collectively own approximately 110 upstream affiliates that themselves own Sellers. We are estimating an average of four Sellers affected for every upstream affiliate, equaling 440 total sellers. Under this proposal, Sellers whose ultimate upstream affiliates hold their voting securities pursuant to section 203(a)(2) blanket authorizations would be required to report the upstream affiliate(s) whose securities have been acquired pursuant to a section 203(a)(2) blanket authorization, and certain information pertaining to the institutional investors, as described above.

17. Burden Estimate: The estimated burden and cost ¹⁶ for the requirements proposed in this Notice follow. Our estimate is limited to the proposal to require Sellers reporting institutional investors with section 203(a)(2) blanket authorizations as their ultimate upstream affiliates to add information on the upstream affiliate(s) whose securities have been acquired pursuant to a section 203(a)(2) blanket authorization in the above-noted fields within the relational database.

¹⁶ The estimated hourly cost burden for respondents—$93.08—is the average of mean hourly wages from May 2019 Bureau of Labor Statistics (BLS) data at http://www.bls.gov/oes/current/oes_nat.htm, and BLS benefits data at http://www.bls.gov/news.release/ecec.nr0.htm for the following occupations: Legal Occupations (23-0000), Computer and Information Systems Managers (11-3021), Computer and Mathematical Occupations (15-0000), and Information and Record Clerks (43-4199).

18. The following table summarizes the average estimated annual burden and cost changes due to this notice seeking comments and includes the estimate from Order 860 being replaced here: ¹⁷

¹⁷ We estimate that the additional burden of reporting this information will have a net decrease in overall burden because sellers will no longer be affiliated through common ultimate upstream affiliates with blanket authorizations, as contemplated in Order Nos. 860 and 860-A. We conservatively estimate that the net effect on the impacted sellers reporting this information will be zero.

Respondent/incremental burden category | Number of respondents ¹⁸ | Number of responses per respondent | Number of responses (B * C) | Burden hours per response | Hourly cost ($) per response | Total annual burden hours (D * E) | Total cost ($) (F * G)
A. | B. | C. | D. | E. | F. | G. | H.
First Year, proposed incremental cost associated with the collection of reporting connections to an entity whose securities were acquired pursuant to a blanket authorization (Increase due to this notice seeking comments)
Impacted Sellers, as proposed in this Notice | 440 | 1 | 440 | 2 | 93.08 | 880 | 81,910.40.
Ongoing collection of reporting connections to an entity whose securities were acquired pursuant to a blanket authorization
Impacted Sellers, as proposed in this Notice | 440 | 1 | 440 | 68 | 93.08 | 29,920 | 2,784,953.60.
Original estimate in Order 860, being replaced by the estimates above in this Notice
Original estimate in Order 860, being replaced by & subtracted in this Notice—Impacted Sellers Original Estimate ¹⁹ | 440 | 1 | −440 | 70 [former estimate, being replaced] | 93.08 | −29,920 [former estimate, being replaced] | −2,866,864.00 [former estimate, being replaced].
| Cost Difference from Original Estimate in Order 860 |  | −81,910.40 [reduction].
| First Year Incremental Cost Total, due to this Notice |  | 81,910.40.
| Net (of above 2 rows) Additional Cost, due to this Notice |  | 0.

IV. Environmental Analysis

¹⁸ We are estimating an average of four sellers affected for every upstream affiliate, equaling 440 total sellers.

¹⁹ Order No. 860, 168 FERC ¶ 61,039 at P 323.

19. The Commission is required to prepare an Environmental Assessment or an Environmental Impact Statement for any action that may have a significant adverse effect on the human environment.²⁰ The Commission has categorically excluded certain actions from these requirements as not having a significant effect on the human environment.²¹ The actions proposed here fall within a categorical exclusion in the Commission's regulations, i.e., they involve information gathering, analysis, and dissemination.²² Therefore, environmental analysis is unnecessary and has not been performed.

²⁰ Regulations Implementing the National Environmental Policy Act, Order No. 486, 52 FR 47897 (Dec. 17, 1987), FERC Stats. & Regs. ¶ 30,783 (1987).

²¹ Id.

²² 18 CFR 380.4.

V. Regulatory Flexibility Act

20. The Regulatory Flexibility Act of 1980 (RFA) ²³ generally requires a description and analysis of proposed rules that will have significant economic impact on a substantial number of small entities. The RFA mandates consideration of regulatory alternatives that accomplish the stated objectives of a proposed rule and minimize any significant economic impact on a substantial number of small entities. In lieu of preparing a regulatory flexibility analysis, an agency may certify that a proposed rule will not have a significant economic impact on a substantial number of small entities.

²³ 5 U.S.C. 601-612.

21. The Small Business Administration's (SBA) Office of Size Standards develops the numerical definition of a small business.²⁴ The SBA size standard for electric utilities is based on the number of employees, including affiliates.²⁵ Under SBA's current size standards, an electric utility (one that falls under NAICS codes 221122 [electric power distribution, with a small business threshold of 1,000 employees], 221121 [electric bulk power transmission and control, with a small business threshold of 500 employees], or 221118 [other electric power generation, with a small business threshold of 250 employees]) ²⁶ are small if it, including its affiliates, employs 1,000 or fewer people.²⁷

²⁴ 13 CFR 121.101.

²⁵ 13 CFR 121.101.

²⁶ The North American Industry Classification System (NAICS) is an industry classification system that Federal statistical agencies use to categorize businesses for the purpose of collecting, analyzing, and publishing statistical data related to the U.S. economy. United States Census Bureau, North American Industry Classification System, https://www.census.gov/eos/www/naics/.

²⁷ 13 CFR 121.201 (Sector 22—Utilities). To be conservative, we are using a small business threshold of 1,000 employees.

22. Of the 440 affected entities discussed above, we estimate that none of these will be small entities. Therefore, no small entities will incur additional cost due to this Notice. Accordingly, we certify that this Notice will not have a significant economic impact on a substantial number of small entities.

VI. Comment Procedures

23. The Commission invites interested persons to submit comments on the matters and issues proposed in this notice to be adopted, including any related matters or alternative proposals that commenters may wish to discuss. Comments are due June 7, 2021. Comments must refer to Docket No. RM16-17-000, and must include the commenter's name, the organization they represent, if applicable, and their address in their comments. All comments will be placed in the Commission's public files and may be viewed, printed, or downloaded remotely as described in the Document Availability section below. Commenters on this proposal are not required to serve copies of their comments on other commenters.

24. The Commission encourages comments to be filed electronically via the eFiling link on the Commission's website at http://www.ferc.gov. The Commission accepts most standard word processing formats. Documents created electronically using word processing software should be filed in native applications or print-to-PDF format and not in a scanned format. Commenters filing electronically do not need to make a paper filing.

25. Commenters that are not able to file comments electronically may file an original of their comment by USPS mail or by courier-or other delivery services. For submission sent via USPS only, filings should be mailed to: Federal Energy Regulatory Commission, Office of the Secretary, 888 First Street NE, Washington, DC 20426. Submission of filings other than by USPS should be delivered to: Federal Energy Regulatory Commission, 12225 Wilkins Avenue, Rockville, MD 20852.

VII. Document Availability

26. In addition to publishing the full text of this document in the Federal Register, the Commission provides all interested persons an opportunity to view and/or print the contents of this document via the internet through the Commission's Home Page (http://www.ferc.gov). At this time, the Commission has suspended access to the Commission's Public Reference Room due to the President's March 13, 2020 proclamation declaring a National Emergency concerning the Novel Coronavirus Disease (COVID-19).

27. From the Commission's Home Page on the internet, this information is available on eLibrary. The full text of this document is available on eLibrary in PDF and Microsoft Word format for viewing, printing, and/or downloading. To access this document in eLibrary, type the docket number excluding the last three digits of this document in the docket number field.

28. User assistance is available for eLibrary and the Commission's website during normal business hours from the Commission's Online Support at 202-502-6652 (toll free at 1-866-208-3676) or email at ferconlinesupport@ferc.gov, or the Public Reference Room at (202) 502-8371, TTY (202) 502-8659. Email the Public Reference Room at public.referenceroom@ferc.gov.

By direction of the Commission.
Issued: March 18, 2021.
Kimberly D. Bose,
Secretary.

Appendix A—Draft Data Dictionary Updating the Entities to Entities Table
[Mapping of reporting entities to ultimate upstream affiliates (gray rows auto-populated by database system were removed for readability)]
entities_to_entities: No. | entities_to_entities: Attribute | Description | Identifier type | Nullable | SQL type | Format | Validations
6 | record_type_cd | Indicates whether this is a new submission or a submission to update an existing record | Options List: • New. • Update. | N | CHARACTER (6) | NA | Must either be “New” or “Update” if information is included in this table.
7 | reference_id | Identifier of existing record being updated |  | Y | INTEGER |  | Required if record_type_cd is “Update.” Must match an existing entry from the “Entities to Entities ID” column of the Entities to Entities Submitted Data Table, found here.
8 | reportable_entity_ID_type_CD | User selects one of the three identifier types it will provide for these 2 fields: —Company Identifier/CID of the reportable entity. (Required if available.) —Legal Entity Identifier/LEI of the reportable entity. (Required if available and CID is not available.) —FERC generated ID/GID of the reportable entity. (Required if CID and LEI are not available.) | Options List: • CID. • LEI. • GID. | N | CHARACTER (3) |  | Must be “CID,” “LEI,” or “GID.”
9 | reportable_entity_ID | CID, LEI, or GID for the entity being reported | Foreign Key (CID) Foreign Key (LEI). Foreign Key (GID). | N | CHARACTER (7) CHARACTER (20). CHARACTER (10). |  | Must match an active record identifier. These identifiers can be found using General Search, found here.
10 | Blanket_Auth_Docket_Number | Docket number of the section 203(a)(2) blanket authorization |  | Y | CHARACTER VARYING (15) | XXXX-X-XXX; XXXX-XX-XXX; XXXX-XXX-XXX; or XXXX-XXXX-XXX | Required if the Reportable Entity received a 203(a)(2) blanket authorization. Common relationships through ultimate upstream affiliates with these authorizations do not impact a seller's Asset Appendix.
11 | Utility_ID_Type_CD | User selects one of the three identifier types it will provide for these 2 fields: —Company Identifier/CID of the reportable entity. (Required if available.) —Legal Entity Identifier/LEI of the reportable entity. (Required if available and CID is not available.) —FERC generated ID/GID of the reportable entity. (Required if CID and LEI are not available.) | Options List • CID. • LEI. • GID. | Y | CHARACTER (3) |  | Required if the Reportable Entity received a 203(a)(2) blanket authorization. Must be either “CID,” “LEI,” or “GID.”
12 | Utility_ID | CID, LEI, or GID for the entity whose securities were acquired pursuant to the blanket authorization | Foreign Key (CID). Foreign Key (LEI). Foreign Key (GID). | Y | CHARACTER (7) CHARACTER (20). CHARACTER (10). |  | Required if the Reportable Entity received a 203(a)(2) blanket authorization. Common relationships through this utility are used to identify affiliations in the asset appendix. Must match an active record identifier. These identifiers can be found using General Search, found here.
13 | relationship_start_date | Date reported relationship started |  | N | DATE | YYYY-MM-DD (ANSI) | Valid date.
14 | relationship_end_date | Date reported relationship ended |  | Y | DATE | YYYY-MM-DD (ANSI) | Valid date. Value must be ≥ relationship_start_date.

[FR Doc. 2021-06092 Filed 4-5-21; 8:45 am]

BILLING CODE 6717-01-P